DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with May anniversary dates. In accordance with Commerce's regulations, we are initiating those administrative reviews.

DATES: Applicable July 10, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with May anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Aluminum Extrusions From the People's Republic of China

In the event Commerce limits the number of respondents for individual examination in the administrative review of the antidumping duty order on aluminum extrusions from the People's Republic of China (“China”), Commerce intends to select respondents based on volume data contained in responses to Q&V questionnaires. Further, Commerce intends to limit the number of Q&V questionnaires issued in the review based on CBP data for U.S. imports of aluminum extrusions from China. The extremely wide variety of individual types of aluminum extrusion products included in the scope of the order on aluminum extrusions would preclude meaningful results in attempting to determine the largest China exporters of subject merchandise by volume. Therefore, Commerce will limit the number of Q&V questionnaires issued based on the import values in CBP data which will serve as a proxy for imported quantities. Parties subject to the review to which Commerce does not send a Q&V questionnaire may file a response to the Q&V questionnaire by the applicable deadline if they desire to be included in the pool of companies from which Commerce will select mandatory respondents. The Q&V questionnaire will be available on Commerce's website at http://trade.gov/enforcement/news.asp on the date of publication of this notice in the Federal Register. The responses to the Q&V questionnaire must be received by Commerce within 14 days of publication of this notice. Please be advised that due to the time constraints imposed by the statutory and regulatory deadlines for antidumping duty administrative reviews, Commerce does not intend to grant any extensions for the submission of responses to the Q&V questionnaire. Parties will be given the opportunity to comment on the CBP data used by Commerce to limit the number of Q&V questionnaires issued. We intend to release the CBP data under APO to all parties having an APO within seven days of publication of this notice in the Federal Register. Commerce invites comments regarding CBP data and respondent selection within five days of placement of the CBP data on the record.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews

In accordance with 19 CFR 351.221(c)(1)(i), we are initiating administrative reviews of the following AD and CVD orders and findings. We intend to issue the final results of these reviews not later than May 31, 2021.

AD proceedings | Period to be reviewed
BELGIUM: Carbon and Alloy Steel Cut-to-Length Plate A-423-812 | 5/1/19-4/30/20
A.G. der Dillinger Hütte
C.A. Picard GmbH
Doerrenberg Edelstahl GmbH
Edgen Murray
EEW Steel Trading LLC
Fike Europe B.A
Industeel Belgium S.A
Industeel France S.A.S
Macsteel International
NLMK Clabecq S.A./NLMK Plate Sales S.A./NLMK Sales Europe S.A./NLMK Manage Steel Center S.A./NLMK La Louviere S.A
NLMK Dansteel A.S
NLMK Verona SpA
NobelClad Europe GmbH & Co. KG
RP Technik GmbH Profilsysteme
Salzgitter Mannesmann International GmbH
Stahlo Stahl Service GmbH & Co. KG
Stemcor USA
Thyssenkrupp Steel Europe
TWF Treuhandgesellschaft Werbefilm mbH
Tranter Service Centers
Válcovny Trub Chomutov A.s
Voestalpine Grobblech GmbH
CANADA: Large Diameter Welded Pipe A-122-863 | 8/27/18-4/30/20
Acier Profile SBB Inc
Aciers Lague Steels Inc
Amdor Inc
BPC Services Group
Bri‐Steel Manufacturing
Canada Culvert
Canadian National Steel Corp
Canam (St Gedeon)
Cappco Tubular Products Canada Inc
CFI Metal Inc
Dominion Pipe & Piling
Enduro Canada Pipeline Services
Evraz Inc. NA/Evraz Inc. NA Canada/The Canadian National Steel Corporation ⁵
Fi Oilfield Services Canada
Forterra
Gchem Ltd
Graham Construction
Groupe Fordia Inc
Grupo Fordia Inc
Hodgson Custom Rolling
Hyprescon Inc
Interpipe Inc
K K Recycling Services
Kobelt Manufacturing Co
Labrie Environment
Les Aciers Sofatec
Lorenz Conveying P
Lorenz Conveying Products
Matrix Manufacturing
MBI Produits De Forge
Nor Arc
Peak Drilling Ltd
Pipe & Piling Sply Ltd
Pipe & Piling Supplies
Prudental
Prudential
Shaw Pipe Protecction
Shaw Pipe Protection
Tenaris Algoma Tubes Facility
Tenaris Prudential
Welded Tube of Can Ltd
GERMANY: Carbon and Alloy Steel Cut-to-Length Plate A-428-844 | 5/1/19-4/30/20
AG der Dillinger Hüttenwerke
GREECE: Large Diameter Welded Pipe ⁶ A-484-803 | 4/19/19-4/30/20
Corinth Pipeworks Pipe Industry S.A
INDIA: Certain Welded Carbon Steel Standard Pipes and Tubes A-533-502 | 5/1/19-4/30/20
Apl Apollo Tubes Ltd
Asian Contec Ltd.
Bhandari Foils & Tubes Ltd
Bhushan Steel Ltd
Blue Moon Logistics Pvt. Ltd
CH Robinson Worldwide
Ess-Kay Engineers
Fiber Tech Composite Pvt. Ltd
Garg Tube Export LLP
GCL Private Limited
Goodluck India Ltd
GVN Fuels Ltd
Hydromatik
Jindal Quality Tubular Ltd
KLT Automatic & Tubular Products Ltd
Lloyds Line Pipes Ltd
Manushi Enterprise
MARINEtrans India Private Ltd
Nishi Boring Corporation
Patton International Ltd
Raajratna Ventures Ltd
Ratnamani Metals & Tubes Ltd
SAR Transport Systems Pvt. Ltd
Surya Global Steel Tubes Ltd
Surya Roshni Ltd
Vallourec Heat Exchanger Tubes Ltd
Welspun India Ltd
Zenith Birla (India) Ltd
Zenith Birla Steels Private Ltd
Zenith Dyeintermediates Ltd
ITALY: Carbon and Alloy Steel Cut-to-Length Plate A-475-834 | 5/1/19-4/30/20
Arvedi Tubi Acciaio
C.M.T. Construzioni Meccaniche di Taglione Emilio & C. S.a.s
Lyman Steel Company
MAM s.r.1
NLMK Verona SpA
O.ME.P SpA
Ofar SpA
Officine Tecnosider s.r.1
Sesa SpA
Tim-Cop Doo Temerin
JAPAN: Diffusion-Annealed Nickel-Plated Flat-Rolled Steel Products A-588-869 | 5/1/19-4/30/20
Toyo Kohan Co., Ltd
REPUBLIC OF KOREA: Carbon and Alloy Steel Cut-To-Length Plate A-580-887 | 5/1/19-4/30/20
POSCO
REPUBLIC OF KOREA: Carbon and Alloy Steel Wire Rod A-580-891 | 5/1/19-4/30/20
POSCO
REPUBLIC OF KOREA: Large Diameter Welded Pipe A-580-897 | 8/27/18-4/30/20
AJU Besteel Co., Ltd
Chang Won Bending Co., Ltd
Daiduck Piping Co., Ltd
Dong Yang Steel Pipe Co., Ltd
Dongbu Incheon Steel Co., Ltd
EEW KHPC Co., Ltd
EEW Korea Co., Ltd
HiSteel Co., Ltd
Husteel Co., Ltd
Hyundai RB Co., Ltd
Hyundai Steel Company
Kiduck Industries Co., Ltd
Kum Kang Kind. Co., Ltd
Kumsoo Connecting Co., Ltd
Nexteel Co., Ltd
SeAH Steel Corporation
Seonghwa Industrial Co., Ltd
SIN‐E B&P Co., Ltd
Steel Flower Co., Ltd
WELTECH Co., Ltd
REPUBLIC OF KOREA: Polyester Staple Fiber A-580-839 | 5/1/19-4/30/20
Huvis Corporation
Toray Advanced Materials Korea, Inc. (formerly Toray Chemical Korea, Inc.)
SULTANATE OF OMAN: Polyethylene Terephthalate Resin A-523-810 | 5/1/19-4/30/20
OCTAL SAOC-FZC
TAIWAN: Stilbenic Optical Brightening Agents A-583-848 | 5/1/19-4/30/20
Teh Fong Min International Co., Ltd
THE PEOPLE'S REPUBLIC OF CHINA: Aluminum Extrusions A-570-967 | 5/1/19-4/30/20
Allpower Display Co., Ltd
Amidi Zhuhai
Anderson International
Asia-Pacific Light Alloy (Nantong) Technology Co., Ltd
Beauty Sky Technology Co. Ltd
Changshu Changsheng Aluminum Products Co., Ltd
Chenming Industry and Commerce Shouguang Co., Ltd
China International Freight Co. Ltd
China State Decoration Group Co., Ltd
CRRC Changzhou Auto Parts Co. Ltd
Custom Accessories Asia Ltd
Everfoison Industry Ltd
Foshan City Fangyuan Ceramic
Foshan City Nanhai Yongfeng Aluminum
Foshan City Top Deal Import and Export Co., Ltd
Foshan Gold Bridge Import and Export Co. Ltd
Foshan Golden Promise Import and Export Co., Ltd
Foshan Guangshou Import and Export Co., Ltd
Foshan Xingtao Aluminum Profile Co., Ltd
Fujian Minfa Aluminum Co., Ltd
Fujian Minfa Aluminum Inc
Fuzhou Ruifuchang Trading Co., Ltd
Fuzhou Sunmodo New Energy Equipment Co., Ltd
Gebruder Weiss
Gold Bridge International
Grupo Emb
Grupo Europeo La Optica
Grupo Pe No Mato In
Guangdong Gaoming Guangtai Shicai
Guangdong Gaoxin Communication Equipment Industrial Co., Ltd
Guangdong Golden China Economy
Guangdong Maoming Foreign Trade Enterprise Development Co
Guangdong Taiming Metal Products Co., LTD
Guangdong Victor Aluminum Co., Ltd
Guangzhou Jintao Trade Company
Hangzhou Evernew Machinery & Equipment Co., Ltd
Hangzhou Tonny Electric and Tools Co., Ltd
Hefei Sylux Imp. & Exp. Co., Ltd
Hong Kong Dayo Company, Ltd
Huazhijie Plastic Products
Huiqiao International Shanghai
Ilshim Almax
Jer Education Technology
Jiangsu Asia-Pacific Light Alloy Technology Co Ltd
Jiangsu Weatherford Hongda Petroleum Equipment Co., Ltd
Jiangsu Yizheng Haitian Aluminum Industrial
Jiang Yin Ming Ding Aluminum & Plastic Products Co. Ltd
Jilin Qixing Aluminum Industries Co., Ltd
Jin Lingfeng Plastic Electrical Appliance
Kanal Precision Aluminum Product Co. Ltd
Kingtom Aluminio SLR
Larkcop International Co Ltd
Ledluz Co Ltd
Liansu Group Co. Ltd
Links Relocations Beijing
Marshell International
Modular Assembly Technology
Ningbo Deye Inverter Technology
Ningbo Hightech Development
Ningbo Winjoy International Trading
Orient Express Container
Ou Chuang Plastic Building Material (Zhejiang) Co., Ltd
Pentagon Freight Service
Pro Fixture Hong Kong
Qingdao Sea Nova Building
Qingdao Yahe Imports and Exports
Rollease Acmeda Pty
Sewon
Shandong Huajian Aluminum Industry
Shanghai EverSkill M&E Co., Ltd
Shanghai Jingxin Logistics
Shanghai Ouma Crafts Co, Ltd
Shanghai Phidix Trading
Sinogar Aluminum
Sunvast Trade Shanghai
Suzhou Mingde Aluminum
Tai-Ao Aluminum (Taishan) Co., Ltd
Taizhou Puan Lighting Technology
Transwell Logistics Co., Ltd
United Aluminum
Uniton Investment Ltd
Wanhui Industrial China
Wellste Material
Wenzhou Yongtai Electric Co., Ltd
Winstar Power Technology Limited
Wisechain Trading Ltd
Wuxi Lotus Essence
Wuxi Rapid Scaffolding Engineering
Wuxi Zontai Int'l Corporation Ltd
Xuancheng Huilv Aluminum Industry Co., Ltd
Yekalon Industry Inc
Yonn Yuu Enterprise Co., Ltd
Yuyao Royal Industrial
Zhejiang Guoyao Aluminum Co., Ltd
Zhejiang Shiner Import and Export
Zhongshan Broad Windows and Doors and Curtain
ZL Trade Shanghai
THE PEOPLE'S REPUBLIC OF CHINA: Cast Iron Soil Pipe A-570-079 | 8/31/18-4/30/20
Yuncheng Jiangxian Economic Development Zone HengTong Casting Co., Ltd (aka HengTong Casting Co., Ltd.)
THE PEOPLE'S REPUBLIC OF CHINA: Oil Country Tubular Goods A-570-943 | 5/1/19-4/30/20
Angang Steel Co., Ltd
Anshan Zhongyou Tipo Pipe & Tubing
APL Logistics China, Ltd
APL Logistics SCS Hong Kong Ltd
Baoji Petroleum Steel Pipe Co., Ltd
Baosteel Group Corporation
BaoTou Steel Union Co., Ltd
Baoyi Steel Pipe Limited Co., Ltd
Beijing Fortune Wind International Trade Co., Ltd
Beijing Zhongyou TIPO Material & Equipment Co., Ltd
Benxi Northern Steel Pipe Co., Ltd
Better Drilling Fluid Solution Ltd
Bohai NKK Drill Pipe Co., Ltd
Cameron Systems Shanghai Co., Ltd
Cangzhou Tianda Petroleum Pipe Co., Ltd
Cangzhou Qiancheng Steel Pipe Co., Ltd
Changzhou Darun Steel Tube
Changzhou Yuanyang Steel Tube Co., Ltd
Chengdu Heyi Steel Tube Industrial Co., Ltd
CNBM International Corporation
CNBM Jian Pu Resources Co., Ltd
CNOOC Kingland Pipeline Co., Ltd
Dalian Hongya Pump Industry Co., Ltd
Daye Special Steel Co., Ltd
Dongying Jortin Oilfield Technology Co., Ltd
Dongying Taifung Precision Metal Co., Ltd
Falconview Energy Products (Jinhu) Co., Ltd
Fangzheng Valve Group (Shanghai) Co., Ltd
Faray Petroleum Steel Pipe Co., Ltd
FES (China) Ltd
Foshan Shunde Jet Hope Industries
Fushun Haili Machinery Manufacture Co., Ltd
GE Energy Hangzhou Co., Ltd
General Electric Company
Haicheng Northern Steel Pipe Anti-Corrosion Co., Ltd
Handan Precise Seamless Steel Pipes Co., Ltd
Henan Zyzj Petroleum Equipment Co., Ltd
Hengyang Valin Steel Tube Co., Ltd
HG Tubulars—1st Huabei OCTG Machinery Co., Ltd
Hillhead Pipe Alliance (Beijing) Co., Ltd
Hongze Dongjun Machinery Co., Ltd
Hunan Great Steel Pipe Co., Ltd
Huzhou Kingland Petroleum-Gas Pipeline Co., Ltd
IFA Engineered Components Group
Jiangsu BenoSton Machinery Co., Ltd
Jiangsu FORGED Pipe Fittings Co., Ltd
Jiangsu Hongfei Petroleum Machinery Co., Ltd
Jiangsu Huacheng Industry Group Co., Ltd
Jiangsu Jianzhong New Material Co., Ltd
Jiangsu Leewen Machinery Co., Ltd
Jiangsu Rio Solar Energy Technology Co., Ltd
Jiangsu Weatherford Hongda Petroleum Equipment Co., Ltd
Jiangsu Xiongyue Petroleum Mechanical Equipment Manufacturing Co., Ltd
Jiangsu Yulong Steel Pipe Co., Ltd
Jiangyin Changgang Pipe Making Co., Ltd
Jiangyin Changjiang Oil Special Pipe Manufacture Co., Ltd
Jiangyin City Changjiang Steel Pipe Co., Ltd
Jiangyin City Seamless Steel Tube Factory Co., Ltd
Jiangyin Metal Tube-Making Factory Co., Ltd
Jianhu Jielin Petrochemical Machinery Co., Ltd
Jinan Mech Piping Technology Co., Ltd
Liaoning Northern Steel Pipe Co., Ltd
Liaoyang Large-Scale Steel Pipe Plant Co., Ltd
M&M Steel Pipe Co., Ltd
Nanjing Youtian Metal Technology Co., Ltd
National Oilwell Varco Grant Prideco China
Newish Industrial Ltd
Ningbo Hengfa Steel Tube Co., Ltd
Ningbo Zhongrui Import & Export Co., Ltd
North China Petroleum Steel Pipe Co., Ltd
Northeast Special Steel Group Qiqihar Haoying Iron & Steel Co., Ltd
Pangang Group Beihai Steel Pipe (PGBH) Corp
Puyang City Shuangfa Industry Co., Ltd
Qing Zhou Kai Tuo Machinery Co., Ltd
Qingdao CSSC Technical Products Ltd
Qingdao GBS Machinery Co., Ltd
Qingdao Vastar Industrial Co., Ltd
Qingdao Hearld Machinery Co., Ltd
R&D Technology (Suzhou) Co., Ltd
Retai Petroleum Machinery
Rongsheng Machinery Manufacture Ltd
Shaanxi Newland Industrial Co., Ltd
Shandong Huabao Steel Pipe Co., Ltd
Shandong Jianning Metals Co., Ltd
Shandong Luxing Steel Pipe Co., Ltd
Shandong Molong Petroleum Machinery Co., Ltd
Shandong Shuanglun Co., Ltd
Shangdong Jianning Metals Co., Ltd
Shanghai AOZE Petroleum Equipment Co., Ltd
Shanghai Fengyi Supply Chain Management Co., Ltd
Shanghai Foreign Trade Enterprises Co. Ltd
Shanghai Kongsberg Automotive Dong Feng Morse
Shanghai Sunrise Industrial Equipment Co., Ltd
Shanghai Wogi Industrial Co., Ltd
Shanghai Xinlin International Trading Co., Ltd
Shanghai Xiqi Import & Export Co., Ltd
Shanghai Yinyuan International Trade Co., Ltd
Shanghai Zheng Lin International Trading Co., Ltd
Shanxi Huaxiang Group Co., Ltd
Shanxi Yuci Guolian Pipe Manufacturing Co., Ltd
Shenyang Bhogart Trading Co., Ltd
Steel Pipe Works of North China Petroleum
Suzhou Douson Drilling & Production Equipment Co., Ltd
Suzhou Innotek Machinery Co., Ltd
Suzhou Seamless Steel Tube Co., Ltd
Suzhou Yima Mechanical Technology Co., Ltd
Taiyuan Huaye Equipment Research Institute Co., Ltd
Tangshan Hesheng Machinery & Equipment Co., Ltd
Technoflex (Shanghai) Inc
Tianjin Baolai Steel Pipe Co., Ltd
Tianjin Boyu Steel Pipe Co., Ltd
Tianjin Free Trade Service Co., Ltd
Tianjin Jingtong Seamless Steel Pipe Co., Ltd
Tianjin North-Pipe Trade Co., Ltd
Tianjin Pipe (Group) Corporation
Tianjin Pipe International Economic & Trading Corp
Tianjin Shuangjie Steel Pipe Co., Ltd
Tianjin Tiangang Special Petroleum Pipe Manufacture (Tiangang) Co., Ltd
Tianjin Tianye Seamless Steel Pipe Plant Co., Ltd
Tianjin Tubular Goods Machining Co., Ltd
Tianjin Xingyuda Steel Pipe Co., Ltd
Tianjin Yingqiang Combination Petroleum Equipment Co., Ltd
Tianjin Zhongshun Industry Trade Co., Ltd
Unisteel
Wellhead Solutions Co., Ltd
Wuxi Compressor Co., Ltd
Wuxi Derui Seamless Steel Pipe Co., Ltd
Wuxi Eastsun Trade Co., Ltd
Wuxi Erquan Special Steel Tube Co., Ltd
Wuxi Fastube Dingyuan Precision Steel Pipe Co., Ltd
Wuxi Fastube Industry Co., Ltd
Wuxi Free Petroleum Tubulars Manufacture Co., Ltd
Wuxi Huayou Special Steel Co., Ltd
Wuxi OFD Oil-Field Supply Co., Ltd
Wuxi Seamless Oil Pipes Co., Ltd
Wuxi Vokeda Technology Co., Ltd
Wuxi Xingya Seamless Steel Tube Co., Ltd
Wuxi Zhenda Special Steel Tube Manufacturing Co., Ltd
Xuzhou Guanghuan Steel Tube Co., Ltd
Yancheng Steel Tube Co., Ltd
Yufeng Resources Co., Ltd
Zhangjiagang Sheng Ding Yuan Pipe-Making Co., Ltd
Zhejiang Bnjis Stainless Steel Co., Ltd
Zhejiang Dingxin Steel Tube Manufacturing Co., Ltd
Zhejiang E-Tune Special Steel. Tube Co. Ltd
ZheJiang Gross Seamless Steel Tube Co., Ltd
Zhejiang Jianli Enterprise Co., Ltd
Zhejiang Jiuli Hi-Tech Metals Co., Ltd
Zhejiang Kanglong Steel Co., Ltd
Zhejiang Minghe Steel Pipe Co., Ltd
Zhejiang Pacific Seamless Steel Tube Co., Ltd
Zhejiang Ruimai Stainless Steel Tube Co., Ltd
Zhejiang Shifang Pipe Industry Co., Ltd
Zhejiang Tsingshan Steel Pipe Co., Ltd
Zhejiang Xinhang Stainless Steel Co., Ltd
Zhejiang Yinlong Stainless Steel Co., Ltd
Zhejiang Zhiju Pipeline Industry Co., Ltd
Zhejiang Zhongda Special Steel Co., Ltd
Zhejiang Zhongli Stainless Steel Pipe Co., Ltd
THE PEOPLE'S REPUBLIC OF CHINA: Pure Magnesium A-570-832 | 5/1/19-4/30/20
Tianjin Magnesium International Co., Ltd
Tianjin Magnesium Metal Co., Ltd
TURKEY: Circular Welded Carbon Steel Pipes and Tubes A-489-501 | 5/1/19-4/30/20
Borusan Birlesik Boru Fabrikalari San ve Tic
Borusan Gemlik Boru Tesisleri A.S
Borusan Holding
Borusan Ihracat Ithalat ve Dagitim A.S
Borusan Ithicat ve Dagitim A.S
Borusman Istikbal Ticaret T.A.S
Borusan Mannesmann Boru Sanayi ve Ticaret A.S
Borusan Mannesmann Yatirim Holding
Cayirova Boru Sanayi ve Ticaret A.S
Cinar Boru Profil San. Ve Tic. A.S
Erbosan Erciyas Boru Sanayi ve Ticaret A.S
Kale Baglann Teknolojileri San. ve Tic. A.S
Kale Baglanti Teknolojileri San. ve Tic. A.S
Noksel Celik Boru Sanayi A.S
Toscelik Metal Ticaret A.S
Toscelik Profil Ve Sac Endüstrisi A.S
Tosyali Dis Ticaret A.S
Tubeco Pipe and Steel Corporation
Yucel Boru ve Profil Endustrisi A.S
Yucelboru Ihracat ve Pazarlama A.S
TURKEY: Large Diameter Welded Pipe A-489-833 | 8/27/18-4/30/20
Borusan Mannesmann Boru Sanayi ve Ticaret A.S.⁷
Borusan Istikbal Ticaret
HDM Celik Boru Sanayi ve Ticaret A.S.HDM Spiral Kaynakli Boru A.S.⁸
HDM Spirally Welded Steel Pipe Inc
Spirally Welded Steel Pipe Inc
Çimtaş Boru Imalatiral Ticaret Ltd
Emek Boru Makina Sanayi ve Ticaret A.S
Erciyas Celik Boru Sanayi A.S
Mazlum Mangtay Boru Son. Ins. Tar.Urn.San.ve Tic. A.S
Noksel Celik Boru Sanayi A.S
Ozbal Celik Boru San. Tic. Ve TAAH A.S
Toscelik Profil ve Sac End. A.S
Toscelik Profile and Sheet Ind. Co
Toscelik Spiral Boru Uretim A.S
Umran Celik Boru Sanayii A.S
TURKEY: Light-Walled Rectangular Pipe and Tube A-489-815 | 5/1/19-4/30/20
Cinar Boru Profil Sanayi ve Ticaret A.S
Intermetal International Metal, L.L.C
Parker Steel Company, Inc
Parker Steel International
Tata Steel Nederland Tubes BV
Van Leeuwen Precisie B.V
UNITED ARAB EMIRATES: Certain Steel Nails A-520-804 | 5/1/19-4/30/20
Middle East Manufacturing Steel LLC
Richwell Steel Industries
CVD Proceedings
REPUBLIC OF KOREA: Carbon and Alloy Steel Cut-To-Length Plate C-580-888 | 1/1/19-12/31/19
BDP International
Blue Track Equipment
Boxco
Bukook Steel Co., Ltd
Buma CE Co., Ltd
China Chengdu International Techno-Economic Cooperation Co., Ltd
Daehan I.M. Co., Ltd
Daehan Tex Co., Ltd
Daelim Industrial Co., Ltd
Daesam Industrial Co., Ltd
Daesin Lighting Co., Ltd
Daewoo International Corp
Dong Yang Steel Pipe
Dongbu Steel Co., Ltd
Dongkuk Industries Co., Ltd
Dongkuk Steel Mill Co., Ltd
EAE Automotive Equipment
EEW KHPC Co., Ltd
Eplus Expo Inc
GS Global Corp
Haem Co., Ltd
Han Young Industries
Hyosung Corp
Hyundai Steel Co
Jinmyung Frictech Co., Ltd
Khana Marine Ltd
Kindus Inc
Korean Iron and Steel Co., Ltd
Kyoungil Precision Co., Ltd
Menics
POSCO
Qian'an Rentai Metal Products Co., Ltd
Samsun C&T Corp
Shinko
Shipping Imperial Co., Ltd
Sinchang Eng Co., Ltd
SK Networks Co., Ltd
SNP Ltd
Steel N People Ltd
Summit Industry
Sungjin Co., Ltd
Young Sun Steel
REPUBLIC OF KOREA: Large Diameter Welded Pipe C-580-898 | 6/29/18-12/31/19
AJU Besteel Co., Ltd
Chang Won Bending Co., Ltd
Daiduck Piping Co., Ltd
Dong Yang Steel Pipe Co., Ltd
Dongbu Incheon Steel Co., Ltd
EEW KHPC Co., Ltd
EEW Korea Co., Ltd
HiSteel Co., Ltd
Husteel Co., Ltd.⁹
Hyundai RB Co., Ltd
Hyundai Steel Company ¹⁰
Kiduck Industries Co., Ltd
Kum Kang Kind. Co., Ltd
Kumsoo Connecting Co., Ltd
Nexteel Co., Ltd
Samkang M&T Co., Ltd
SeAH Steel Corporation
Seonghwa Industrial Co., Ltd
SIN‐E B&P Co., Ltd
Steel Flower Co., Ltd
WELTECH Co., Ltd
THE PEOPLE'S REPUBLIC OF CHINA: Aluminum Extrusions C-570-968 | 1/1/19-12/31/19
Allpower Display Co., Ltd
Amidi Zhuhai
Anderson International
Asia-Pacific Light Alloy (Nantong) Technology Co., Ltd
Beauty Sky Technology Co. Ltd
Changshu Changsheng Aluminum Products Co., Ltd
Chenming Industry and Commerce Shouguang Co., Ltd
China International Freight Co. Ltd
China State Decoration Group Co., Ltd
CRRC Changzhou Auto Parts Co. Ltd
Custom Accessories Asia Ltd
Everfoison Industry Ltd
Foshan City Fangyuan Ceramic
Foshan City Nanhai Yongfeng Aluminum
Foshan City Top Deal Import and Export Co., Ltd
Foshan Gold Bridge Import and Export Co. Ltd
Foshan Golden Promise Import and Export Co., Ltd
Foshan Guangshou Import and Export Co., Ltd
Foshan Xingtao Aluminum Profile Co., Ltd
Fujian Minfa Aluminum Co., Ltd
Fujian Minfa Aluminum Inc
Fuzhou Ruifuchang Trading Co., Ltd
Fuzhou Sunmodo New Energy Equipment Co., Ltd
Gebruder Weiss
Gold Bridge International
Grupo Emb
Grupo Europeo La Optica
Grupo Pe No Mato In
Guangdong Gaoming Guangtai Shicai
Guangdong Gaoxin Communication Equipment Industrial Co., Ltd
Guangdong Golden China Economy
Guangdong Maoming Foreign Trade Enterprise Development Co
Guangdong Taiming Metal Products Co., LTD
Guangdong Victor Aluminum Co., Ltd
Guangzhou Jintao Trade Company
Hangzhou Evernew Machinery & Equipment Co., Ltd
Hangzhou Tonny Electric and Tools Co., Ltd
Hefei Sylux Imp. & Exp. Co., Ltd
Hong Kong Dayo Company, Ltd
Huazhijie Plastic Products
Huiqiao International Shanghai
Ilshim Almax
Jer Education Technology
Jiangsu Asia-Pacific Light Alloy Technology Co Ltd
Jiangsu Weatherford Hongda Petroleum Equipment Co., Ltd
Jiangsu Yizheng Haitian Aluminum Industrial
Jiang Yin Ming Ding Aluminum & Plastic Products Co. Ltd
Jilin Qixing Aluminum Industries Co., Ltd
Jin Lingfeng Plastic Electrical Appliance
Kanal Precision Aluminum Product Co. Ltd
Kingtom Aluminio SLR
Larkcop International Co Ltd
Ledluz Co Ltd
Liansu Group Co. Ltd
Links Relocations Beijing
Marshell International
Modular Assembly Technology
Ningbo Deye Inverter Technology
Ningbo Hightech Development
Ningbo Winjoy International Trading
Orient Express Container
Ou Chuang Plastic Building Material (Zhejiang) Co., Ltd
Pentagon Freight Service
Pro Fixture Hong Kong
Qingdao Sea Nova Building
Qingdao Yahe Imports and Exports
Rollease Acmeda Pty
Sewon
Shandong Huajian Aluminum Industry
Shanghai EverSkill M&E Co., Ltd
Shanghai Jingxin Logistics
Shanghai Ouma Crafts Co, Ltd
Shanghai Phidix Trading
Sinogar Aluminum
Sunvast Trade Shanghai
Suzhou Mingde Aluminum
Tai-Ao Aluminum (Taishan) Co., Ltd
Taizhou Puan Lighting Technology
Transwell Logistics Co., Ltd
United Aluminum
Uniton Investment Ltd
Wanhui Industrial China
Wellste Material
Wenzhou Yongtai Electric Co., Ltd
Winstar Power Technology Limited
Wisechain Trading Ltd
Wuxi Lotus Essence
Wuxi Rapid Scaffolding Engineering
Wuxi Zontai Int'l Corporation Ltd
Xuancheng Huilv Aluminum Industry Co., Ltd
Yekalon Industry Inc
Yonn Yuu Enterprise Co., Ltd
Yuyao Royal Industrial
Zhejiang Guoyao Aluminum Co., Ltd
Zhejiang Shiner Import and Export
Zhongshan Broad Windows and Doors and Curtain
ZL Trade Shanghai
THE PEOPLE'S REPUBLIC OF CHINA: Truck and Bus Tires C-570-041 | 2/15/19-12/31/19
Prinx Chengshan (Shandong) Tire Co., Ltd.¹¹
TURKEY: Large Diameter Welded Pipe C-489-834 | 6/29/18-12/31/19
Borusan Mannesmann Boru Sanayi ve Ticaret A.S.¹²
Borusan Istikbal Ticaret
HDM Celik Boru Sanayi ve Ticaret A.S
HDM Spiral Kaynakli Boru A.S.¹³
Spirally Welded Steel Pipe Inc
Çimtaş Boru Imalatiral Ticaret Ltd
Emek Boru Makina Sanayi ve Ticaret A.S
Erciyas Celik Boru Sanayi A.S
Mazlum Mangtay Boru Son. Ins. Tar.Urn.San.ve Tic. A.S
Noksel Celik Boru Sanayi A.S
Ozbal Celik Boru San. Tic. Ve TAAH A.S
Toscelik Profil ve Sac End. A.S
Toscelik Profile and Sheet Ind. Co
Toscelik Spiral Boru Uretim A.S
Umran Celik Boru Sanayii A.S

Suspension Agreements

None

⁵ Commerce has previously treated these companies as a single entity. See Large Diameter Welded Pipe from Canada, 84 FR 18775, 18776 n.15 (May 2, 2019). Absent information to the contrary, we intend to continue to treat these companies as a single entity for purposes of this administrative review.

⁶ In the opportunity notice that published on May 1, 2020 (85 FR 25394) the POR for the above referenced case was incorrect. The period listed above is the correct POR for this case.

⁷ Subject merchandise produced and exported by Borusan Mannesmann Boru Sanayi ve Ticaret A.S. (Borusan) was excluded from the order effective June 1, 2020. See Large Diameter Welded Pipe from the Republic of Turkey: Notice of Court Decision Not in Harmony With Amended Final Determination in the Less-Than-Fair-Value Investigation; Notice of Amended Final Determination Pursuant to Court Decision; and Notice of Revocation of Antidumping Duty Order, in Part, 85 FR 35262, 35264 (June 9, 2020). Commerce also stated in this notice that it would not initiate any new reviews of Borusan's entries. Accordingly, we are initiating this administrative review with respect to Borusan only for subject merchandise produced in Turkey where Borusan acted as either the manufacturer or exporter (but not both).

⁸ This company's name in English is HDM Spirally Welded Steel Pipe Inc.

⁹ Subject merchandise both produced and exported by Husteel Co., Ltd. (Husteel) is excluded from the antidumping duty order. See Large Diameter Welded Pipe from the Republic of Korea: Countervailing Duty Order, 84 FR 18773 (May 2, 2019). Thus, Husteel's inclusion in this administrative review is limited to entries for which Husteel was not both the producer and exporter of the subject merchandise.

¹⁰ Subject merchandise both produced and exported by Hyundai Steel Company (Hyundai Steel) and subject merchandise produced by Hyundai Steel and exported by Hyundai Corporation are excluded from the antidumping duty order. See Large Diameter Welded Pipe from the Republic of Korea: Countervailing Duty Order, 84 FR 18773 (May 2, 2019). Thus, Hyundai Steel's inclusion in this administrative review is limited to entries for which Hyundai Steel was not the producer and exporter of the subject merchandise and for which Hyundai Steel was not the producer and Hyundai Corporation was not the exporter of subject merchandise.

¹¹ In Initiation of Antidumping and Countervailing Duty Administrative Reviews 85 FR 19730 (April 8, 2020), this company was incorrectly identified and Prinx Changshan (Shandong) Tire Co. Ltd. This notice corrects that error.

¹² Subject merchandise produced and exported by Borusan Mannesmann Boru Sanayi ve Ticaret A.S. (Borusan) was excluded from the order. See Large Diameter Welded Pipe From the Republic of Turkey: Countervailing Duty Order, 84 FR 18771, 18772 (May 2, 2019). Accordingly, we are initiating this administrative review with respect to Borusan only for subject merchandise produced in Turkey where Borusan acted as either the manufacturer or exporter (but not both).

¹³ This company's name in English is HDM Spirally Welded Steel Pipe Inc.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁴ available at https://enforcement.trade.gov/frn/2013/1304frn/2013-08227.txt, prior to submitting factual information in this segment. Note that Commerce has temporarily modified certain of its requirements for serving documents containing business proprietary information, until July 17, 2020, unless extended.¹⁵

¹⁴ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁵ See Temporary Rule Modifying AD/CVD Service Requirements Due to COVID-19, 85 FR 29615 (May 18, 2020).

Any party submitting factual information in an AD or CVD proceeding must certify to the accuracy and completeness of that information using the formats provided at the end of the Final Rule.¹⁶ Commerce intends to reject factual submissions in any proceeding segments if the submitting party does not comply with applicable certification requirements.

¹⁶ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁷ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁷ See 19 CFR 351.302.

These initiations and this notice are in accordance with section 751(a) of the Act (19 U.S.C. 1675(a)) and 19 CFR 351.221(c)(1)(i).

Dated: July 6, 2020.
James Maeder,
Deputy Assistant Secretary for Antidumping and Countervailing Duty Operations.

[FR Doc. 2020-14834 Filed 7-9-20; 8:45 am]

BILLING CODE 3510-DS-P